DEPARTMENT OF ENERGY

Federal Energy Regulatory Commission

Combined Notice of Filings #1

Take notice that the Commission received the following electric rate filings:

Docket Numbers: ER22-2898-001.

Applicants: Huck Finn Solar, LLC.

Description: Tariff Amendment: Response to Request for Additional Information of Huck Finn Solar to be effective 11/21/2022.

Filed Date: 11/30/22.

Accession Number: 20221130-5187.

Comment Date: 5 p.m. ET 12/21/22.

Docket Numbers: ER23-272-000.

Applicants: Avangrid Renewables, LLC.

Description: Refund Report: Refund Report to be effective N/A.

Filed Date: 11/30/22.

Accession Number: 20221130-5102.

Comment Date: 5 p.m. ET 12/21/22.

Docket Numbers: ER23-509-000.

Applicants: El Paso Electric Company.

Description: § 205(d) Rate Filing: Service Agreement No. 367, EPE and Solar PV Development to be effective 1/28/2023.

Filed Date: 11/29/22.

Accession Number: 20221129-5205.

Comment Date: 5 p.m. ET 12/20/22.

Docket Numbers: ER23-510-000

Applicants: Midcontinent Independent System Operator, Inc.

Description: § 205(d) Rate Filing: 2022-11-30_SA 3740 Entergy Louisiana-Willis Pond 1st Rev GIA (J1421) to be effective 1/30/2023.

Filed Date: 11/30/22.

Accession Number: 20221130-5039.

Comment Date: 5 p.m. ET 12/21/22.

Docket Numbers: ER23-511-000.

Applicants: American Electric Power Service Corporation, Southwest Power Pool, Inc.

Description: § 205(d) Rate Filing: American Electric Power Service Corporation submits tariff filing per 35.13(a)(2)(iii: AEP West Transcos and AEP West Operating Cos Formula Rate Revisions to be effective 2/1/2023.

Filed Date: 11/30/22.

Accession Number: 20221130-5107.

Comment Date: 5 p.m. ET 12/21/22.

Docket Numbers: ER23-512-000.

Applicants: PJM Interconnection, L.L.C.

Description: § 205(d) Rate Filing: Amendment to ISA, Service Agreement No. 6007; Queue No. AD2-115 to be effective 3/15/2021.

Filed Date: 11/30/22.

Accession Number: 20221130-5118.

Comment Date: 5 p.m. ET 12/21/22.

Docket Numbers: ER23-513-000.

Applicants: Midcontinent Independent System Operator, Inc., Great River Energy.

Description: § 205(d) Rate Filing: Midcontinent Independent System Operator, Inc. submits tariff filing per 35.13(a)(2)(iii: 2022-11-30_GRE Revisions to Formula Rates and Transmission Rate Incentives to be effective 2/1/2023.

Filed Date: 11/30/22.

Accession Number: 20221130-5126.

Comment Date: 5 p.m. ET 12/21/22.

Docket Numbers: ER23-514-000.

Applicants: Alabama Power Company, Georgia Power Company, Mississippi Power Company.

Description: Tariff Amendment: Alabama Power Company submits tariff filing per 35.15: FP&L NITSA Termination Filing to be effective 10/31/2022.

Filed Date: 11/30/22.

Accession Number: 20221130-5152.

Comment Date: 5 p.m. ET 12/21/22.

Docket Numbers: ER23-515-000.

Applicants: Alabama Power Company, Georgia Power Company, Mississippi Power Company.

Description: § 205(d) Rate Filing: Alabama Power Company submits tariff filing per 35.13(a)(2)(iii: Wadley Solar LGIA Amendment Filing to be effective 11/28/2022.

Filed Date: 11/30/22.

Accession Number: 20221130-5160.

Comment Date: 5 p.m. ET 12/21/22.

Docket Numbers: ER23-516-000.

Applicants: Frederickson Power L.P.

Description: § 205(d) Rate Filing: Tariff Revision Category 1 (11.30.22) to be effective 12/1/2022.

Filed Date: 11/30/22.

Accession Number: 20221130-5181.

Comment Date: 5 p.m. ET 12/21/22.

Docket Numbers: ER23-517-000.

Applicants: ISO New England Inc., New England Power Pool Participants Committee.

Description: § 205(d) Rate Filing: ISO New England Inc. submits tariff filing per 35.13(a)(2)(iii: ISO-NE/NEPOOL; Revisions to Incorporate Solar Resources into DNE Dispatch Rules to be effective 12/5/2023.

Filed Date: 11/30/22.

Accession Number: 20221130-5203.

Comment Date: 5 p.m. ET 12/21/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2022.
Kimberly D. Bose,
Secretary.

[FR Doc. 2022-26478 Filed 12-5-22; 8:45 am]

BILLING CODE 6717-01-P